DEPARTMENT OF THE INTERIOR

Minerals Management Service

Notice on Outer Continental Shelf Oil and Gas Lease Sales

AGENCY: Minerals Management Service, Interior.

ACTION: List of Restricted Joint Bidders.

SUMMARY: Pursuant to the authority vested in the Director of the Minerals Management Service by the joint bidding provisions of 30 CFR 256.41, each entity within one of the following groups shall be restricted from bidding with any entity in any other of the following groups at Outer Continental Shelf oil and gas lease sales to be held during the bidding period May 1,2003, through October 31, 2003. This notice updates the List of Restricted Joint Bidders published in the April 11, 2003, Federal Register.

Group I.

Exxon Mobil Corporation.

ExxonMobil Exploration Company.

Group II.

Shell Oil Company.

Shell Offshore Inc.

SWEPI LP.

Shell Frontier Oil & Gas Inc.

Shell Consolidated Energy Resources Inc.

Shell Land & Energy Company.

Shell Onshore Ventures Inc.

Shell Offshore Properties and Capital II, Inc.

Shell Rocky Mountain Production LLC.

Shell Gulf of Mexico Inc.

Group III.

BP American Production Company.

BP Exploration & Production Inc.

BP Exploration (Alaska) Inc.

Group IV.

TotalFinaElf E&P USA, Inc.

Group V.

ChevronTexaco Corporation.

Chevron U.S.A. Inc.

Texaco Inc.

Texaco Exploration and Production Inc.

Dated: April 23, 2003.
Thomas A. Readinger,
Associate Director for Offshore Minerals Management.

[FR Doc. 03-10330 Filed 4-25-03; 8:45 am]

BILLING CODE 4310-MR-P